COMMISSION ON CIVIL RIGHTS

Sunshine Act Notice

AGENCY: United States Commission on Civil Rights.

ACTION: Notice of meeting.

DATE AND TIME: Friday, March 12, 2010; 9:30 a.m. EST.

PLACE: 624 9th St., NW., Room 540, Washington, DC 20425.

Meeting Agenda

This meeting is open to the public, except where noted otherwise.

I. Approval of Agenda

II. State Advisory Committee Issues

• Pennsylvania

• Nevada SAC

• Kansas SAC

• Missouri SAC

• District of Columbia SAC

III. Program Planning

• Approval of Briefing Report on Historically Black Colleges and Universities

• Discussion of Commission Meeting Schedule in April

• Discussion of Timelines for Consideration of Briefing Reports & Scheduling of Briefings

• Update on Status of the 2010 Enforcement Report and Related Hearing (Some of the discussion of this agenda item may be held in closed session.)

• Update on Status of Title IX Project (Some of the discussion of this agenda item may be held in closed session.)

• Update on Attack Against Asian-American Students at South Philadelphia High School

IV. Management and Operations

• Office of General Counsel Presentation Regarding Commissioner Terms

V. Staff Director's Report

VI. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: March 2, 2010.
David Blackwood,
General Counsel.

[FR Doc. 2010-4732 Filed 3-2-10; 4:15 pm]

BILLING CODE 6335-01-P